DEPARTMENT OF TRANSPORTATION

Surface Transportation Board

[STB Finance Docket No. 34801]

Western New York & Pennsylvania Railroad, LLC—Lease and Operation Exemption—Norfolk Southern Railway Company

Western New York & Pennsylvania Railroad, LLC (WNYP), a Class III rail carrier, has filed a verified notice of exemption under 49 CFR 1150.41 to lease from the Norfolk Southern Railway Company (NSR) and operate approximately 45.25 miles of rail lines located between Meadville and Rouseville, in Crawford and Venango Counties, PA. The rail lines are as follows: (1) The Meadville Industrial Track between milepost 102.3 and milepost 105.5; (2) the Franklin Secondary Track between milepost 0.0 (which connects with the Meadville Industrial Track at milepost 105.42) and milepost 23.0; (3) the Franklin Industrial Track between milepost 23.0 and milepost 33.6; (4) the Titus Industrial Track between milepost 137.32 and milepost 133.8, and between milepost 137.32 and milepost 137.5; and (5) the Oil City Industrial Track between milepost 0.0 and milepost 2.0, and between milepost 132.25 and milepost 129.5 at the end of the track. NSR will retain overhead trackage rights over the Meadville Industrial Track between milepost 102.3 and milepost 105.5.

WNYP certifies that its projected annual revenues as a result of the transaction will not result in its becoming a Class I or Class II rail carrier and will not exceed $5 million.

WNYP states that the parties intended to consummate the transaction on or soon after December 26, 2005, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34801, must be filed with the Surface Transportation Board, 1925 K Street, NW., Washington, DC 20423-0001. In addition, a copy of each pleading must be served on Kevin M. Sheys, Kirkpatrick & Lockhart Nicholson Graham LLP, 1800 Massachusetts Avenue, 2nd Floor, Washington, DC 20036.

Board decisions and notices are available on our Web site at http://www.stb.dot.gov.

Decided: January 10, 2006.
By the Board, David M. Konschnik, Director, Office of Proceedings.
Vernon A. Williams,
Secretary.

[FR Doc. 06-393 Filed 1-17-06; 8:45 am]

BILLING CODE 4915-01-P